DEPARTMENT OF LABOR

Employment and Training Administration

[TA-W-38,195]

Nova Bus, Inc., Roswell, New Mexico; Notice of Termination of Investigation

Pursuant to section 221 of the Trade Act of 1974, an investigation was intitiated on October 10, 2000, in response to a petition which was filed by the company on behalf of workers at Nova Bus, Inc., Roswell, New Mexico.

The petitioner has requested that the petition be withdrawn. Consequently, further investigation in this case would serve no purpose, and the investigation has been terminated.

Signed at Washington, DC, this 20th day of November 2000.
Linda G. Poole,
Certifying Officer, Division of Trade Adjustment Assistance.

[FR Doc. 00-31038 Filed 12-5-00; 8:45 am]

BILLING CODE 4510-30-M